DEPARTMENT OF COMMERCE

National Oceanic and Atmospheric Administration

[I.D. 060906A]

Marine Mammals; File Nos. 1093-1834 and 774-1847

AGENCY: National Marine Fisheries Service (NMFS), National Oceanic and Atmospheric Administration (NOAA), Commerce.

ACTION: Notice; withdrawal of application, and receipt of application.

SUMMARY: Notice is hereby given of the following two actions related to permits for research on marine mammals: Susan Shaw, PhD., Executive Director, Marine Environmental Research Institute, 55 Main Street, P.O. Box 1652, Blue Hill, ME 04614 (File No. 1093-1834) has withdrawn her application for a permit to conduct research on harbor seals (Phoca vitulina concolor) in Maine; and the NMFS Southwest Fisheries Science Center, Antarctic Marine Living Resources Program (Rennie Holt, Ph.D., Principal Investigator), 8604 La Jolla Shores Drive, La Jolla, CA 92037 (File No. 774-1847) has applied in due form for a permit to conduct research on Antarctic fur seals (Arctophalus gazell) and leopard seals (Hydrurga leptonyx).

ADDRESSES: The documents related to these actions are available for review upon written request or by appointment in the following offices:

Both files:

Permits, Conservation and Education Division, Office of Protected Resources, NMFS, 1315 East-West Highway, Room 13705, Silver Spring, MD 20910; phone (301)713-2289; fax (301)427-2521;

File No. 1093-1834:

Northeast Region, NMFS, One Blackburn Drive, Gloucester, MA 01930-2298; phone (978)281-9300; fax (978)281-9394;and

File No. 774-1847:

Southwest Region, NMFS, 501 West Ocean Blvd., Suite 4200, Long Beach, CA 90802-4213; phone (562)980-4001; fax (562)980-4018.

Written comments or requests for a public hearing on the application File No. 774-1847 should be mailed to the Chief, Permits, Conservation and Education Division, F/PR1, Office of Protected Resources, NMFS, 1315 East-West Highway, Room 13705, Silver Spring, MD 20910. Those individuals requesting a hearing should set forth the specific reasons why a hearing on this particular request would be appropriate.

FOR FURTHER INFORMATION CONTACT: Kate Swails or Tammy Adams, (301)713-2289.

SUPPLEMENTARY INFORMATION: On March 14, 2006 a notice was published in the Federal Register (71 FR 13102) that an application had been filed by Susan Shaw. The applicant requested a 5-year permit to investigate the utility of free-ranging harbor seals as a mammalian sentinel species for coastal contamination and associated health risks for top consumers in the marine food chain. After completing revisions the applicant plans to resubmit the application in the fall.

A permit (File No. 774-1847) is requested under the authority of the Marine Mammal Protection Act of 1972, as amended (MMPA; 16 U.S.C. 1361 et seq.), the Regulations Governing the Taking and Importing of Marine Mammals (50 CFR part 216), and the Fur Seal Act of 1966, as amended (16 U.S.C. 1151 et seq.).

The applicant requests a five-year permit to continue a long-term ecosystem monitoring program of pinniped species in the South Shetland Islands, Antarctica. The applicant proposes to take up to 710 Antarctic fur seals and 20 leopard seals annually. The animals would be captured, measured, weighed, tagged, blood sampled, and have time-depth recorders, VHF transmitters, and platform terminal transmitters attached. A subset of fur seals would be given an enema, have a tooth extracted, milk sampled, and be part of a doubly-labeled water study on energetics. A subset of leopard seals would be blubber and muscle sampled. Additionally, the applicant would conduct regional census surveys. The applicant also requests authorization for the research-related mortality of up to three Antarctic fur seals and one leopard seal annually.

Concurrent with the publication of this notice in the Federal Register, NMFS is forwarding copies of the application File No. 774-1847 to the Marine Mammal Commission and its Committee of Scientific Advisors.

Dated: June 12, 2006.
P. Michael Payne,
Chief, Permits, Conservation and Education Division, Office of Protected Resources, National Marine Fisheries Service.

[FR Doc. E6-9496 Filed 6-16-06; 8:45 am]

BILLING CODE 3510-22-S